INTERNATIONAL TRADE COMMISSION

[USITC SE-07-025]

Sunshine Act Meeting

Agency Holding The Meeting: United States International Trade Commission.

Time and Date: November 20, 2007 at 11 a.m.

Place: Room 101, 500 E Street SW., Washington, DC 20436, Telephone: (202) 205-2000.

Status: Open to the public.

Matters To Be Considered 1. Agenda for future meetings: None.

2. Minutes.

3. Ratification List.

4. Inv. Nos. 701-TA-444-446 and 731-TA-1107-1109 (Final) (Coated Free Sheet Paper from China, Indonesia, and Korea)—briefing and vote. (The Commission is currently scheduled to transmit its determinations and Commissioners' opinions to the Secretary of Commerce on or before December 6, 2007.)

5. Outstanding action jackets: None.

In accordance with Commission policy, subject matter listed above, not disposed of at the scheduled meeting, may be carried over to the agenda of the following meeting.

Issued: November 8, 2007.
By order of the Commission.
William R. Bishop,
Hearings and Meetings Coordinator.

[FR Doc. E7-22269 Filed 11-14-07; 8:45 am]

BILLING CODE 7020-02-P